DEPARTMENT OF DEFENSE

Department of the Army; Corps of Engineers

Coastal Engineering Research Board; Meeting

AGENCY: Department of the Army, DoD.

ACTION: Notice of open meeting.

SUMMARY: In accordance with Section 10(a)(2) of the Federal Advisory Committee Act (pub. L. 92-463), announcement is made of the following committee meeting:

Name of Committees: Coastal Engineering Research Board (CERB).

Date: September 10, 2003.

Place: U.S. Army Engineer Division, North Atlantic, Brooklyn, NY.

Time: 10 a.m. to 2:30 p.m.

Proposed Agenda: The Board will meet in Executive Session to discuss updates of ongoing Board activities, such as Region sediment Management (RSM), the National Shoreline Management Study, Section 227, the status of the Louisiana Coastal Area Project, the Gulf of Mexico RSM, and the IOOS Coordination Activities.

FOR FURTHER INFORMATION CONTACT: Inquires and notice of intent to attend the meeting may be addressed to Thomas W. Richardson, Acting Executive Secretary, Coastal and hydraulics Laboratory, U.S. Army Engineer Research and Development Center, Waterways Experiment Station, 3909 Halls Ferry Road, Vicksburg, Mississippi 39180-6199.

SUPPLEMENTARY INFORMATION: This meeting is open to the public, but since seating capacity of the meeting room is limited, advance notice of intent to attend, although not required, is requested in order to assure adequate arrangements for those wishing to attend.

Lutz D. Ortiz,
Army Federal Register Liaison Officer.

[FR Doc. 03-22022 Filed 8-27-03; 8:45 am]

BILLING CODE 3710-61-M